DEPARTMENT OF TRANSPORTATION

Federal Aviation Administration

14 CFR Part 39

[Docket No. FAA-2010-0781; Directorate Identifier 2007-SW-49-AD; Amendment 39-16590; AD 2011-03-06]

RIN 2120-AA64

Airworthiness Directives; Eurocopter France Model AS-365N2, AS 365 N3, and SA-365N1 Helicopters

AGENCY: Federal Aviation Administration (FAA), DOT.

ACTION: Final rule.

SUMMARY: This amendment adopts a new airworthiness directive (AD) for the specified Eurocopter France (Eurocopter) model helicopters. This AD requires replacing the aluminum tail rotor (T/R) blade pitch control shaft with a steel T/R blade pitch control shaft. This AD is prompted by an incident involving a Eurocopter Model AS-365N2 helicopter on which there was a loss of control of the T/R due to a broken shaft. The actions specified by this AD are intended to prevent failure of the T/R blade pitch control shaft, loss of T/R control, and subsequent loss of control of the helicopter.

DATES: Effective April 14, 2011.

The incorporation by reference of certain publications listed in the regulations is approved by the Director of the Federal Register as of April 14, 2011.

ADDRESSES: You may get the service information identified in this AD from American Eurocopter Corporation, 2701 Forum Drive, Grand Prairie, Texas 75053-4005, telephone (800) 232-0323, fax (972) 641-3710, or at http://www.eurocopter.com.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: Jim Grigg, Aviation Safety Engineer, Safety Management Group, Rotorcraft Directorate, FAA, 2601 Meacham Blvd., Fort Worth, Texas 76137, telephone (817) 222-5126, fax (817) 222-5961.

SUPPLEMENTARY INFORMATION:

Discussion

On August 2, 2010 we issued a Notice of Proposed Rulemaking (NPRM) to amend 14 CFR part 39 to include an AD that would apply to the Eurocopter Model AS-365N2, AS 365 N3, and SA-365N1 helicopters, all serial numbers, with an aluminum T/R blade pitch control shaft, part number (P/N) 365A33.6161.20 or P/N 365A33.6161.21. That NPRM was published in the Federal Register on August 11, 2010 (75 FR 48618) and proposed to require replacing the aluminum T/R blade pitch control shaft with a steel T/R blade pitch control shaft. The actions specified by the NPRM are intended to prevent failure of the T/R blade pitch control shaft, loss of T/R control, and subsequent loss of control of the helicopter.

The European Aviation Safety Agency (EASA), which is the Technical Agent for the Member States of the European Community, has issued EASA AD No. 2007-0220, dated August 13, 2007, to correct an unsafe condition for the Eurocopter Model AS-365N2, AS 365 N3, and SA-365N1 helicopters, all serial numbers, equipped with an aluminum T/R blade pitch control shaft, P/N 365A33.6161.20 or P/N 365A33.6161.21. EASA advises of an incident in which the pilot of a Model AS 365 N2 helicopter encountered a loss of control of the T/R, but executed an uneventful run-on landing. A subsequent investigation revealed that the T/R blade pitch control shaft, P/N 365A33.6161.21, had broken in the main section of the shaft sliding area, which appeared to be damaged by peening. The origin of the crack, which developed under fatigue loading, could not be determined. However, accidental damage (i.e., shock impact), is believed to have caused the initiation of a crack.

Related Service Information

Eurocopter has issued Alert Service Bulletin No. 01.00.59, dated June 21, 2007 (ASB), which specifies removing any T/R blade pitch control shaft, P/N 365A33.6161.20 or P/N 365A33.6161.21, and replacing it with a steel T/R blade pitch control shaft, P/N 365A33.6214.20. EASA classified this ASB as mandatory and issued EASA AD No. 2007-0220, dated August 13, 2007, to ensure the continued airworthiness of these helicopters.

FAA's Evaluation and Unsafe Condition Determination

These products have been approved by the aviation authority of France, and are approved for operation in the United States. Pursuant to our bilateral agreement with France, EASA, their technical representative, has notified us of the unsafe condition described in the EASA AD. We are adopting this AD because we evaluated all information provided by EASA and determined the unsafe condition exists and is likely to exist or develop on other products of these same type designs. This AD requires, within 100 hours time-in-service (TIS), removing any aluminum T/R blade pitch control shaft, P/N 365A33.6161.20 or P/N 365A33.6161.21, and replacing it with a steel T/R blade pitch control shaft, P/N 365A33.6214.20. The actions are required to be accomplished by following specified portions of the ASB described previously.

Differences Between This AD and the EASA AD

Our AD differs from the EASA AD in that we require compliance within 100 hours TIS instead of no later than December 31, 2007, since that date has passed.

Comments

By publishing the NPRM, we gave the public an opportunity to participate in developing this AD. However, we received no comment on the NPRM or on our determination of the cost to the public. Therefore, based on our review and evaluation of the available data, we have determined that air safety and the public interest require adopting the AD as proposed.

Costs of Compliance

We estimate that this AD will affect 36 helicopters of U.S. registry and the actions will take approximately 12 work hours per helicopter to accomplish at an average labor rate of $85 per work hour. Required parts will cost approximately $3,525. Based on these figures, we estimate the total cost impact of the AD on U.S. operators to be $163,620 to replace the aluminum T/R blade pitch control shaft on the entire fleet, or $4,545 per helicopter.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2011-03-06 Eurocopter France: Amendment 39-16590; Docket No. FAA 2010-0781; Directorate Identifier 2007-SW-49-AD.

Applicability: Model AS-365N2, AS 365 N3, and SA-365N1 helicopters, with an aluminum tail rotor (T/R) blade pitch control shaft, part number (P/N) 365A33.6161.20 or P/N 365A33.6161.21, installed, certificated in any category.

Compliance: Required within 100 hours time-in-service, unless accomplished previously.

To prevent failure of the T/R blade pitch control shaft, loss of T/R control, and subsequent loss of control of the helicopter, accomplish the following:

(a) Remove the aluminum T/R blade pitch control shaft, P/N 365A33.6161.20 or P/N 365A33.6161.21, and replace it with a steel T/R blade pitch control shaft, P/N 365A33.6214.20, in accordance with the Accomplishment Instructions, Operational Procedure, paragraphs 2.B.1. through 2.B.3., of Eurocopter Alert Service Bulletin No. 01.00.59, dated June 21, 2007.

(b) To request a different method of compliance or a different compliance time for this AD, follow the procedures in 14 CFR 39.19. Contact the Manager, Safety Management Group, Rotorcraft Directorate, FAA, Attn: Jim Grigg, Aviation Safety Engineer, 2601 Meacham Blvd., Fort Worth, Texas 76137, telephone (817) 222-5126, fax (817) 222-5961.

(c) The Joint Aircraft System/Component (JASC) Code is 6500: Tail Rotor Drive System.

(d) Replace the T/R blade pitch control shaft in accordance with the specified portions of Eurocopter Alert Service Bulletin No. 01.00.59, dated June 21, 2007. The Director of the Federal Register approved this incorporation by reference in accordance with 5 U.S.C. 552(a) and 1 CFR part 51. Copies may be obtained from American Eurocopter Corporation, 2701 Forum Drive, Grand Prairie, TX 75053-4005, telephone (800) 232-0323, fax (972) 641-3710, or at http://www.eurocopter.com. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(e) This amendment becomes effective on April 14, 2011.

Note: The subject of this AD is addressed in European Aviation Safety Agency AD No. 2007-0220, dated August 13, 2007.

Issued in Fort Worth, Texas, on January 24, 2011.
Lance T. Gant,
Acting Manager, Rotorcraft Directorate, Aircraft Certification Service.

[FR Doc. 2011-4467 Filed 3-9-11; 8:45 am]

BILLING CODE 4910-13-P